SURFACE TRANSPORTATION BOARD

[Docket No. FD 36733]

Buckingham Branch Railroad Company—Acquisition Exemption—Norfolk Southern Railway Company

Buckingham Branch Railroad Company (BBRR), a Class III rail carrier, has filed a verified notice of exemption under 49 CFR 1150.41 to acquire from Norfolk Southern Railway Company (NSR) approximately 58.1 route miles of railroad line extending from milepost F86.0 at Burkeville, Va., to milepost F65.8 at Keysville, Va. (historically known as the F Line), and from milepost D0.0 at Keysville to milepost D37.9 at Clarksville, Va. (historically known as the D Line) (collectively, the Lines).

According to the verified notice, except for a portion of the F Line between milepost F86.0 and F84.8 at or near Burkeville, BBRR has operated the Lines pursuant to a lease since 2009. BBRR states that the parties have agreed in principle to the sale of the Lines from NSR to BBRR under the terms of a draft transaction agreement. The verified notice also states that BBRR intends to consummate the subject transaction on or after the effective date of this exemption, and that BBRR will provide all rail common carrier service on the Lines.

BBRR certifies that the transaction agreement does not have an interchange commitment. BBRR further certifies that its projected annual revenues will not result in BBRR's becoming a Class I or Class II rail carrier, but that its annual revenues currently exceed $5 million and are expected to continue to exceed $5 million following its acquisition of the Lines. Pursuant to 49 CFR 1150.42(e), if a carrier's projected annual revenues will exceed $5 million, it must, at least 60 days before the exemption is to become effective, post a notice of its intent to undertake the proposed transaction at the workplace of the employees on the affected lines, serve a copy of the notice on the national offices of the labor unions with employees on the affected lines, and certify to the Board that it has done so. On October 6, 2023, BBRR certified that it had complied with those advance notice requirements.

The transaction may be consummated on or after December 8, 2023, the effective date of the exemption (30 days after the verified notice was filed).

If the verified notice contains false or misleading information, the exemption is void ab initio. Petitions to revoke the exemption under 49 U.S.C. 10502(d) may be filed at any time. The filing of a petition to revoke will not automatically stay the effectiveness of the exemption. Petitions for stay must be filed no later than December 1, 2023.

All pleadings, referring to Docket No. FD 36733, must be filed with the Surface Transportation Board either via e-filing on the Board's website or in writing addressed to 395 E Street SW, Washington, DC 20423-0001. In addition, one copy of each pleading must be served on BBRR's representative, Bradon J. Smith, Fletcher & Sippel LLC, 29 North Wacker Drive, Suite 800, Chicago, IL 60606.

According to BBRR, this action is categorically excluded from environmental review under 49 CFR 1105.6(c) and from historic reporting requirements under 49 CFR 1105.8(b).

Board decisions and notices are available at www.stb.gov.

Decided: November 14, 2023.
By the Board, Mai T. Dinh, Director, Office of Proceedings.
Jeffrey Herzig,
Clearance Clerk.

[FR Doc. 2023-25492 Filed 11-16-23; 8:45 am]

BILLING CODE 4915-01-P